DEPARTMENT OF JUSTICE

Office of Justice Programs

Agency Information Collection Activities: Proposed Collection; Comment Request; Victimization of People With Disabilities Study

ACTION: Notice of information collection under review: New collection; Victimization of People With Disabilities Study.

The Bureau of Justice Statistics, Office of Justice Programs, United States Department of Justice, has submitted the following information collection request for review and clearance in accordance with the Paperwork Reduction Act of 1995. Office of Management and Budget (OMB) approval is being sought for the information collection listed below. This proposed information collection was previously published in the Federal Register on March 21, 2001, Volume 66, page 15889, allowing for a 60 days for public comment.

The purpose of this notice is to allow an additional 30 days for public comments until July 30, 2001. This process is conducted in accordance with 5 CFR 1320.10.

Written comments and/or suggestions regarding the item(s) contained in this notice,especially regarding the estimated public burden and associated response time, should be directed to the Office of Management and Budget, Office of Information and Regulatory Affairs, Attention: Department of Justice Desk Officer, Washington, DC 20530. Comments may also be submitted to the Department of Justice (DOJ), Justice Management Division, Information Management and Security Staff, Attention: Department Deputy Clearance Officer, Suite 1220, 1331 Pennsylvania Avenue, NW., Washington, DC 20530.

Written comments and/or suggestions from the public and affected agencies concerning the proposed collection of information should address one or more of the following four:

(1) Evaluate whether the proposed collection of information is necessary for the proper performance of the functions of the agency/component, including whether the information will have practical utility;

(2) Evaluate the accuracy of the agency's/component's estimate of the burden of the collection of information including the validity of the methodology and assumptions used;

(3) Enhance the quality, utility, and clarity of the information to be collected; and

(4) Minimize the burden of the collection of information on those who are to respond, including through the use of appropriate automated electronic, mechanical, or other technological collection techniques or other forms of information technology, e.g., permitting electronic submission of responses.

Overview of this information:

(1) Type of information collection: New Collection.

(2) The title of the form/collection: The Victimization of People With Disabilities Study.

(3) The agency form number, if any, and the applicable component of the department sponsoring the collection: NCVS-1, NCVS-2, Modified NCVS-1, and Modified NCVS-2.

(4) Affected public who will be asked or required to respond, as well as a brief abstract:

Primary: Individuals. The Victimization of People With Disabilities Study will interview approximately 200 persons with developmental disabilities, age 12 or older, using existing questionnaires and modified standard questionnaires to test suitability of the standard and modified questionnaires for a population of developmentally disabled individuals. Additionally, the test will evaluate U.S. Bureau of the Census interviewer training program for collecting victimization data from persons with disabilities.

Other: None.

(5) An estimate of the total number of respondents and the amount of time estimated for an average respondent to respond/reply: 200 respondents at 1 hour per interview.

(6) An estimate of the total public burden (in hours) associated with the collection: 200 hours burden.

If additional information is required, contact: Mrs. Brenda E. Dyer, Deputy Clearance Officer, United States Department of Justice, Information Management and Security Staff, Justice Management Division, Suite 1220, National Place, 1331 Pennsylvania Avenue, NW., Washington, DC 20530.

Dated: June 20, 2001.
Brenda E. Dyer,
Department Deputy Clearance Officer, Department of Justice.

[FR Doc. 01-16234 Filed 6-27-01; 8:45 am]

BILLING CODE 4410-18-M